COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products and a service from the Procurement List that was previously furnished by nonprofit agencies employing persons who are blind or have other severe disabilities.

DATES: Comments must be received on or before 10/9/2016.

ADDRESSES: Committee for Purchase From People Who Are Blind or Severely Disabled, 1401 S. Clark Street, Suite 715, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and service are proposed for deletion from the Procurement List:

Products

Product Name(s)—NSN(s): 6530-01-163-3704—Cup, Specimen

Contracting Activity: Department of Veterans Affairs

Product Name(s)—NSN(s):

6532-00-914-3069—Shirt, Operating, Surgical

6532-00-914-3070—Shirt, Operating, Surgical

6532-00-914-3071—Shirt, Operating, Surgical

Contracting Activity: Defense Logistics Agency Troop Support

Product Name(s)—NSN(s): 7350-01-138-0022—Pitcher, Water

Contracting Activity: Department of Veterans Affairs

Service

Service Type: Administrative/General Support Service

Mandatory for: GSA, Southwest Supply Center, 819 Taylor Street, Fort Worth, TX

Mandatory Source(s) of Supply: Travis Association for the Blind, Austin, TX

Contracting Activity: General Services Administration, FPDS Agency Coordinator

Barry S. Lineback,
Director, Business Operations,

[FR Doc. 2016-21735 Filed 9-8-16; 8:45 am]

BILLING CODE 6353-01-P